NUCLEAR REGULATORY COMMISSION

Advisory Committee on Nuclear Waste; Notice of Meeting

The Advisory Committee on Nuclear Waste (ACNW) will hold its 138th meeting on November 19-21, 2002, 11545 Rockville Pike, Rockville, Maryland.

The entire meeting will be open to public attendance.

The schedule for this meeting is as follows:

Tuesday, November 19, 2002, NRC Auditorium, 11545 Rockville Pike, Rockville, MD

A. 8:30-8:40 a.m.: Introductory Comments, Statement of Objectives and Overview (Open)—The Chairman will open the meeting and then turn it over to the Working Group Chairman who will state the objectives of the Workshop and provide an overview of the sessions.

Transportation Working Group Workshop

B. 8:40-5:45 p.m.: Transportation Working Group Workshop (Open)—The Committee will hear presentations from and hold discussions with staff, industry, and government representatives regarding testing and analysis performed to assess the safety of spent fuel transportation packages.

Wednesday, November 20, 2002, Conference Room 2B3, Two White Flint North, Rockville, Maryland

C. 10-10:05 a.m.: Opening Statement (Open)—The Chairman will make opening remarks regarding the conduct of today's sessions.

D. 10:05-11:30 a.m.: Igneous Activity Update (Open)—The Committee will hear a presentation by a representative of the NRC staff updating the Committee on recent activities on the igneous activity issue at Yucca Mountain.

E. 12:30-12:35 p.m.: Opening Remarks (Open)—The Working Group Chairman will provide opening remarks for this session.

F. 12:35—6:30 p.m.: Transporation Working Group Workshop (Continued) (Open)-The Committee will hear presentations from and hold discussions with staff, industry, and government representatives regarding spent fuel transportation safety in the U.S.

Thursday, November 21, 2002, Conference Room 2B3, Two White Flint North, Rockville, Maryland

G. 8:30-8:35 a.m.: Opening Statement (Open)—The Chairman will make opening remarks regarding the conduct of today's sessions.

H. 8:35-10:30 a.m.: Commission Presentation (Open)—The Committee will discuss its presentation for the December 18, 2002 public meeting with the Commission. Topics proposed:

• HLW Program Risk Insights Initiative

• Spent Fuel Transportation

• Waste Package Performance

• Igneous Activity at Yucca Mountain

• Yucca Mountain Review Plan

I. 10:45-3 p.m.: Preparation of ACNW Reports (Open)—The Committee will discuss proposed reports on the following topics:

• Principal Observations from September Trip to Yucca Mountain and Environs

• Observations from October Trip to Swedish Waste

• Management Facilities and Berlin Quadripartite Meeting

• Comparison of TSPA and TPA Results

• Conclusions Regarding the Safety of Spent Nuclear Fuel Transporation

J. 3-3:15 p.m.: Miscellaneous (Open)—The Committee will discuss matters related to the conduct of Committee activities and matters and specific issues that were not completed during previous meetings, as time and availability of information permit.

Procedures for the conduct of and participation in ACNW meetings were published in the Federal Register on October 11, 2002 (67 FR 63459). In accordance with these procedures, oral or written statements may be presented by members of the public, electronic recordings will be permitted only during those portions of the meeting that are open to the public, and questions may be asked only by members of the Committee, its consultants, and staff. Persons desiring to make oral statements should notify Mr. Howard J. Larson, ACNW (Telephone 301/415-6805), between 7:30 a.m. and 4 p.m. EST, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefore can be obtained by contacting Mr. Howard J. Larson.

ACNW meeting notices, meeting transcripts, and letter reports are now available for downloading or viewing on the Internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EST, at least 10 days before the meeting to ensure the availability of this service. Individuals or organizations requesting this service will be responsible for telephone line charges and for providing the equipment and facilities that they use to establish the videoteleconferencing link. The availability of videoteleconferencing services is not guaranteed.

Dated: November 5, 2002.
Andrew L. Bates,
Advisory Committee Management Officer.

[FR Doc. 02-28672 Filed 11-8-02; 8:45 am]

BILLING CODE 7590-01-P